FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011515-012.

Title: Steamship Line Co-Operative Chassis Pool Agreement.

Parties: Atlantic Container Line AB; China Shipping Container Lines Co., Ltd.; COSCO Container Lines Company, Ltd.; CMA CGM, S.A.; Compania Sud Americana de Vapores, S.A.; Evergreen Joint Service.; Hanjin Shipping Co., Ltd.; Kawasaki Kisen Kaisha, Ltd.; Mediterranean Shipping Company, S.A.; Safmarine Container Lines, NV; Yangming Marine Transport Corporation; and Zim Integrated Shipping Services, Ltd.

Filing Party: Joshua P. Stein, Esq.; Sher & Blackwell LLP; 1850 M Street, NW.; Suite 900; Washington, DC 20036.

Synopsis: The amendment clarifies the agreement authority for the operation of a chassis pool at Port of Elizabeth, NJ; provides for associate parties to the Agreement; revises procedures for the addition and withdrawal of members; deletes Atlantic Container Line AB, Mediterranean Shipping Company, S.A., Safmarine Container Lines, NV, Compania Sud American de Vapores, S.A., and CMA CGM S.A. as parties to the agreement and adds United Arab Shipping Company, as a party to the agreement; and adds Bermuda Container Line, Hyundai Merchant Marine Co., Ltd., and Mitsui O.S.K. Lines, Ltd as associate parties to the Agreement.

Agreement No.: 012092.

Title: MOL/“K” Line Space Charter and Sailing Agreement.

Parties: Kawasaki Kisen Kaisha, Ltd. and Mitsui O.S.K. Lines, Ltd.

Filing Parties: Robert B. Yoshitomi, Esq.; Nixon Peabody LLP; 555 West 5th Street, 46th Floor; Los Angeles, CA 90013.

Synopsis: The agreement authorizes the parties to exchange slots and to coordinate sailings in the trades between the U.S. Pacific Coast and Japan, China, and Taiwan.

Dated: March 12, 2010.
By Order of the Federal Maritime Commission.
Karen V. Gregory,
Secretary.

[FR Doc. 2010-5821 Filed 3-16-10; 8:45 am]

BILLING CODE P